DEPARTMENT OF AGRICULTURE

Forest Service

Happy Camp/Oak Knoll Ranger District; California; Horse Creek Community Protection and Forest Restoration Project

AGENCY: Forest Service, USDA.

ACTION: Notice of intent to prepare an environmental impact statement.

SUMMARY: The purpose of the Horse Creek Community Protection and Forest Restoration Project (Horse Creek Project) is to reduce fuels along egress and ingress roads, on strategic ridges, and adjacent to private property; to reduce safety hazards along roads and in concentrated stands in and around the community of Horse Creek, California; to restore previously stocked units; and treat the riparian areas within the Horse Creek Botanical Special Interest Area. The Horse Creek Project includes 103 miles of roadside hazard treatment and 7,325 acres of other treatments within the 40,834-acre project boundary.

DATES: Comments concerning the scope of the analysis must be received by December 23, 2016. The draft environmental impact statement is expected March 2017 and the final environmental impact statement is expected July 2017.

ADDRESSES: Send written comments to C. Christine Frisbee ATTN: Lisa Bousfield 1711 S. Main Street, Yreka, California 96097-9549. Comments may also be sent via email to lbousfield@fs.fed.us, or via facsimile to (530) 493-1796.

FOR FURTHER INFORMATION CONTACT: Lisa Bousfield, (530) 493-1766, lbousfield@fs.fed.us or Jeff Marszal, (530) 493-2243, jmarszal@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

Purpose and need is drive by the desired conditions for the landscape or management area in the Forest Plan. Where the forest is in the desired condition described in the Forest Plan, there is no need to act—meaning the existing condition is consistent with the Forest Plan. Where the existing condition of the landscape does not represent the desired conditions described in the Forest Plan, there is a need to act to accomplish the goals and objectives or purposes described in the Forest Plan.

• All Land Allocations—There is a need for public safety because the Gap Fire created unsafe conditions for the public and for adjacent private landowners. There is a need for safe conditions for forest workers, firefighters, tree planters, and recreationists.

• General Forest—There is a need for recovered timber volume from fire killed trees in the General Forest Management Area because these areas contribute to the timber base of the Forest. There is a need for reduced fuel loads to reduce the probability and extent of future high-severity fire. There is a need for fire-resilient coniferous forests in severely burned areas to meet Forest Plan Objectives.

• Partial Retention Visual Quality Objective—There is a need for recovered timber volume from fire killed trees on Partial Retention lands because these areas contribute to the timber base of the Forest. There is a need for reduced fuel loads to reduce the probability and extent of future high severity fire. There is a need for fire-resilient coniferous forests in severely burned areas to meet Forest Plan Objectives for partial retention.

• Late Successional Reserves—There is a need for reduced fuels to reduce the risk of future large-scale high severity fire losses of late successional habitat. There is a need for a fire resilient coniferous forest in severely burned areas to meet the desired conditions for late successional reserves.

• Riparian Reserves—There is a need to reduce fuels to reduce the risk of future high severity fire.

• Special Interest Area—There is a need to restore ecological functions to reflect the unique characteristics for which the Horse Creek Botanical area was designated.

Proposed Action

The proposed action was designed to meet the purpose and need of the project. The proposed action would treat roadside hazard trees adjacent to approximately 103 miles of roads and 7,325 acres of other treatments within the 40,834-acre project boundary. Acres by treatment type are described below and do not account for the overlap in treatment types. Treatment acreages are approximate at this point, riparian reserves have not been field validated, and may be adjusted and refined following scoping.

This project includes the following seven types of treatments: (1) Roadside hazard tree removal; (2) roadside fuels treatments; (3) fuels reduction adjacent to private property; (4) developing and maintaining fuels management zones; (5) salvage harvest with site preparation and planting; (6) site preparation and planting (without salvage); and (7) Horse Creek SIA.

(1) Roadside Hazard Tree Removal (103 miles)—Trees adjacent to National Forest System roads or along county roads adjacent to National Forest System lands within the project area will be evaluated for hazard tree removal.

(2) Roadside Fuels Treatment (1,243 acres)—The National Forest System Roads 12, 46N60, and 46N50 would receive treatment within 150 feet on either side of the road. To maintain strategic ingress and egress roads and to decrease the amount of activity-generated fuels in hazard tree removal areas, we propose to remove dead vegetation and live understory vegetation along with live conifer trees less than 12 inches at breast height.

(3) Fuels Reduction Adjacent to Private Property (1,684 acres)—Fuels reduction treatments are proposed within the 500 feet of National Forest System lands adjacent to private property with an existing structure or that had a structure that was affected by the fire. Treatment would include removing dead vegetation and live understory vegetation including conifer trees less than 12 inches in diameter at breast height to reduce fire behavior activity, specifically reduced flame length, crown fire potential and intensity to meet desired conditions.

(4) Developing and Maintaining Fuels Management Zones (1,499 acres)—During the Gap Fire, strategic dozer lines built during the Beaver Fire in 2014 or from past wildfires were re-opened. Strategic ridge systems, many containing historic firelines already in place, would be maintained by removing dead vegetation and live understory vegetation along with live conifer trees less than 12 inches at breast height.

(5) Salvage Harvest with Site Preparation and Planting (Ground-based 1,262 acres and Skyline (Cable) 995 acres)—Standing dead trees 14 inches in diameter at breast height or greater would be considered for salvage. Fire-killed and fire-injured trees with a 70 percent or greater chance of dying within the next three to five years would be considered for salvage harvest. Salvage logging treatments would be accomplished by a combination of ground-based and skyline logging systems. All salvage units would be reforested as described in the site-preparation and planting section.

(6) Site Preparation and Planting (without salvage) (458 acres)—Forest stands selected for site preparation and tree planting are predominately plantations composed of standing dead trees generally under 16 inches in diameter at breast height. Both manual and mechanical methods would be used to cut or masticate standing dead trees depending on slope steepness, accessibility and feasibility. Activity-generated fuels would be treated using a variety of methods including piling and burning, underburning, or lop and scattering. Reforestation would be accomplished by directly planting nursery-grown seedlings or by allowing natural regeneration.

(7) Horse Creek SIA (184 acres)—Treatment within the Horse Creek SIA includes, hazard tree removal, placing trees with rootwads into the riparian reserve, and planting hardwood and conifers within the riparian reserves.

Connected Actions

• Road Access—Access for this project would be mainly accomplished by use of roads on National Forest Transportation System. Temporary roads are estimated at this time and will be finalized to comply with standards and guidelines as designated within the forest plan.

• Landings—Existing landings will be used where possible. Landing size will be commensurate with operation safety. Skyline landings will use roads where possible. Skyline landings off the road system and ground-based landings will average one acres in size but will not exceed 1.5 acres in size. Both new and existing landings will be hydrologically stabilized at the end of the project.

Responsible Official

C. Christine Frisbee, Klamath National Forest Acting Forest Supervisor, 1711 South Main Street, Yreka, California 96097, will prepare and sign the Record of Decision at the conclusion of the National Environmental Policy Act (NEPA) review.

Nature of Decision To Be Made

The Forest Service is lead agency for the project. Based on the result of the NEPA analysis, the Forest Supervisor's Record of Decision regarding the Horse Creek Project will recommend implementation of one of the following: (1) The proposed action and mitigation necessary to minimize or avoid adverse impacts; (2) An alternative to the proposed action and mitigation necessary to minimize or avoid adverse impacts; or (3) The no-action alternative. The Record of Decision will also document the consistency of the proposed action or one of the alternatives with the Klamath National Forest Land and Resource Management Plan.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: November 16, 2016.
Ted O. Mcarthur,
Acting Deputy Forest Supervisor.

[FR Doc. 2016-28209 Filed 11-22-16; 8:45 am]

BILLING CODE 3411-15-P